DEPARTMENT OF HEALTH AND HUMAN SERVICES

Administration for Community Living

Agency Information Collection Activities; Submission for OMB Review; Comment Request; Revision of a Currently Approved Collection (ICR Rev); National Survey of Older Americans Act Participants (NSOAAP)

AGENCY: Administration for Community Living, HHS.

ACTION: Notice.

SUMMARY: The Administration for Community Living (ACL) is announcing that the proposed collection of information listed below has been submitted to the Office of Management and Budget (OMB) for review and clearance as required under the Paperwork Reduction Act of 1995 (the PRA). This 30-Day notice collects comments on the information collection requirements related to a Revision of a Currently Approved Collection (ICR Rev) (OMB approval number 0985-0023).

DATES: Submit written comments on the collection of information by July 24, 2017.

ADDRESSES: Submit written comments on the collection of information by fax 202-395-5806 or by email to OIRA_submission@omb.eop.gov, Attn: OMB Desk Officer for ACL.

FOR FURTHER INFORMATION CONTACT: Heather Menne at 202-795-7733 or Heather.Menne@acl.hhs.gov.

SUPPLEMENTARY INFORMATION: In compliance with 44 U.S.C. 3507, ACL has submitted the following proposed collection of information to OMB for review and clearance. ACL is requesting approval for three years of an extension of the currently approved data collection with modifications.

The National Survey of Older Americans Act (OAA) Participants information collection will include consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives were incorporated into the last data collection package that was approved by OMB and are included in this proposed extension with modifications of a currently approved collection. This information will be used by ACL to track performance outcome measures; support budget requests; comply with the GPRA Modernization Act of 2010 (GPRAMA) reporting requirements; provide national benchmark information; and inform program development and management initiatives.

Comments in Response to the 60 Day Federal Register Notice

A 60-Day notice was published in the Federal Register in Vol. 82, No. 13457 on March 13, 2017. A Notice of Correction was published in the Federal Register in Vol. 82, No. 15062 on March 24, 2017, announcing that ACL was requesting approval of a proposed extension with modifications of a currently approved data collection. A second Notice of Correction was published in the Federal Register in Vol. 82, No. 20896 on May 4, 2017, announcing that the web location of the proposed information collection would change due to an update of the ACL.gov Web site.

ACL received comments from eighty-nine (89) organizations and just over 13,900 individuals about the National Survey of Older Americans Act Participants (NSOAAP). ACL reviewed all of the comments. Eight (8) of the comments were deemed not relevant because they were: (a) Programmatic in nature and not survey-related; (b) referencing other data collections and not the NSOAAP (e.g., Census); or (c) commentary without reference to the NSOAAP. The majority of the comments that ACL received expressed the need to retain demographic questions on sexual orientation/gender identity. In addition, comments addressed: (a) Methodological, survey design, and sampling considerations; (b) concern about the survey length; and (c) recommendations to modify and/or add clarifying questions throughout the survey. ACL has made minor changes to the survey based on some suggested changes, including retaining the primary question regarding sexual orientation. This survey has remained essentially the same since the last OMB approval on 7/17/2014 (OMB Control Number 0985-0023), and the sampling methodology and the data collection procedures are identical to the previous survey approved in 2014.

Burden Estimates

Descriptions of previous National Surveys of OAA Participants can be found under the section on OAA Performance Information on ACL's Web site at: https://www.acl.gov/programs/oaa-performance-information. Copies of the survey instruments and data from previous National Surveys of OAA Participants can be found and queried using the AGing Integrated Database (AGID) at https://agid.acl.gov/. The proposed National Survey entitled National Survey of Older Americans Act Participants 2017 Revised may be found on the ACL Web site at: https://www.acl.gov/about-acl/public-input. The revisions, including the reinstatement of the primary question on sexual orientation, represent minor changes in terms of data collection burden that do not change the overall estimated burden on respondents.

Annual Burden Estimates
Respondent/data collection activity | Number of respondents | Responses per respondent | Hours per response | Annual burden hours
Area Agency on Aging: Respondent selection process | 250 | 1 | 4.0 | 1,000
Service Recipients (i.e., Congregate and Home-delivered meal nutrition programs; Case Management, Homemaker, and Transportation Services) | 4,000 | 1 | .6667 | 2,666.80
National Family Caregiver Support Program Clients | 2,000 | 1 | .6667 | 1,333.40
Total | 6,250 | 1 | .80 (weighted mean) | 5,000

Estimated Total Annual Burden Hours: 5,000.

Dated: June 16, 2017.
Daniel P. Berger,
Acting Administrator and Assistant Secretary for Aging.

[FR Doc. 2017-13030 Filed 6-21-17; 8:45 am]

BILLING CODE 4154-01-P